DEPARTMENT OF COMMERCE

National Oceanic and Atmospheric Administration

[I.D. 100605F]

Gulf of Mexico Fishery Management Council; Public Meetings

AGENCY: National Marine Fisheries Service (NMFS), National Oceanic and Atmospheric Administration (NOAA), Commerce.

ACTION: Notice of Public Hearings.

SUMMARY: The Gulf of Mexico Fishery Management Council (Council) will convene public hearings to solicit comments on draft Amendment 26 to the Reef Fish Fishery Management Plan (FMP) that contains alternatives to establish an individual fishing quota (IFQ) program for the commercial red snapper fishery in the Gulf of Mexico that has been declared to be overfished and undergoing overfishing.

DATES: The public hearings and workshops will held from October 17 through October 26 at 8 locations throughout the Gulf of Mexico. For those who are unable to attend one of these meetings, a conference call number will be available on Wednesday, October 19, 2005. For specific dates and times see SUPPLEMENTARY INFORMATION.

ADDRESSES: The public hearings and workshops will be held in the following locations: Brownsville, Galveston, and Port Aransas, Texas; Baton Rouge, Louisiana; Pascagoula, Mississippi; Orange Beach, Alabama; and Panama City and Tampa, Florida. For specific dates and times (see SUPPLEMENTARY INFORMATION).

Council address: Gulf of Mexico Fishery Management Council, 2203 North Lois Avenue, Suite 1100, Tampa, FL 33607.

FOR FURTHER INFORMATION CONTACT: Mr. Wayne Swingle, Executive Director, Gulf of Mexico Fishery Management Council; telephone: (813) 348-1630.

SUPPLEMENTARY INFORMATION: The Gulf of Mexico Fishery Management Council will convene pubic hearings to solicit comments on Draft Amendment 26 to the Reef Fish Fishery Management Plan (FMP) that contains alternatives to establish an individual fishing quota (IFQ) program for the commercial red snapper fishery in the Gulf of Mexico that has been declared to be overfished and undergoing overfishing. The IFQ program is being considered to address existing and emerging problems resulting from overcapitalization in this fishery while it recovers. Actions being considered as part of the IFQ program include: its duration; eligibility for shares; initial allocation of shares; potential caps and/or restrictions on shares; and transferability of shares. Other actions being considered include: whether or not shares must be used; how adjustments to the commercial quota will affect allocations and shares; the possible requirement of vessel monitoring systems (VMS) on participating vessels; and a cost recovery plan.

The public hearings will begin at 6 p.m. and conclude no later than 10 p.m. at each of the following locations:

Monday, October 17, 2005, National Marine Fisheries Service Laboratory, 3500 Delwood Beach Road, Panama City, FL 32408, (850) 234-6541;

Tuesday, October 18, 2005, Hilton Garden Inn Orange Beach, 23092 Perdido Beach Boulevard, Orange Beach, AL 36561, (251) 974-1600;

Wednesday, October 19, 2005, LaFont Inn, 2703 Denny Avenue, Pascagoula, MS 39567, (228) 762-7111;

Wednesday, October 19, 2005, Tampa Marriott Westshore, 1001 North Westshore Boulevard, Tampa, FL 33607, (813) 287-2555;

Thursday, October 20, 2005, Sheraton Baton Rouge, 102 France Street, Baton Rouge, LA 70802, (225) 242-2600;

Monday, October 24, 2005, Four Points by Sheraton, 3777 North Expressway, Brownsville, TX 78520, (956) 547-1500;

Tuesday, October 25, 2005, University of Texas Marine Science Institute Auditorium, 750 Channel View Drive, Port Aransas, TX 78373, (361) 749-6711;

Wednesday, October 26, 2005, Holiday Inn Galveston, 5002 Seawall Boulevard, Galveston, TX 77550, (409) 740-3581.

Individuals interested in participating in the public hearing process but are unable to attend any of the scheduled hearings, may participate during the October 19, 2005 hearing via telephone. Interested parties should call (800) 547-5078 from any phone at 6 p.m. EDT. A copy of the amendment and related materials can be obtained by calling the Council office at (813) 348-1630. These meetings are physically accessible to people with disabilities. Requests for sign language interpretation or other auxiliary aids should be directed to Dawn Aring at the Council (see ADDRESSES) at least 5 working days prior to the meeting.

Dated: October 6, 2005.
Emily Menashes,
Acting Director, Office of Sustainable Fisheries, National Marine Fisheries Service.

[FR Doc. E5-5593 Filed 10-12-05; 8:45 am]

BILLING CODE 3510-22-S